DEPARTMENT OF VETERANS AFFAIRS

[OMB Control No. 2900-0208]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information used to notify contractors of available work, solicit and evaluate bids, and monitor work in progress.

DATES: Written comments and recommendations on the proposed collection of information should be received on or before December 16, 2002.

ADDRESSES: Submit written comments on the collection of information to Ann W. Bickoff (193B1), Department of Veterans Affairs, 810 Vermont Avenue, NW, Washington, DC 20420 or e-mail: ann.bickoff@hq.med.va.gov. Please refer to “OMB Control No. 2900-0208” in any correspondence.

FOR FURTHER INFORMATION CONTACT: Ann W. Bickoff at (202) 273-8310 or FAX (202) 273-9381.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles

a. VA Form 10-6131, Daily Log—Formal Contract

b. VA Form 10-6298, Architect—Engineer Fee Proposal

c. VA Form 10-6299, Supplement to SF 129, Solicitation Mailing List Application

OMB Control Number: 2900-0208.

Type of Review: Extension of a currently approved collection.

Abstract:

a. VA Form 10-6131 is used by contractors to furnish daily reports verifying work progression and assures proper contract compliance.

b. VA Form 10-6298 is used by architect-engineering firms to submit a fee proposal on the scope and complexity of an individual project.

c. VA Form 10-6299 is mailed with SF 129, Solicitation Mailing List Application, is used to compile a list of potential bidders and by potential contractors who are afforded advance notification of projects.

Affected Public: Business or other for-profit, State, Local or Tribal Government.

Estimated Annual Burden: 7,400 hours.

Estimated Average Burden Per Respondent

a. VA Form 10-6131—12 minutes.

b. VA Form 10-6298—4 hours.

c. VA Form 10-6299—6 minutes.

Frequency of Response: On occasion.

Estimated Number of Respondents

a. VA Form 10-6131—18,000.

b. VA Form 10-6298—200.

c. VA Form 10-6299—3,000.

Dated: October 2, 2002.
By direction of the Secretary.
Ernesto Castro,
Director, Records Management Service.

[FR Doc. 02-26121 Filed 10-11-02; 8:45 am]

BILLING CODE 8320-01-P